DEPARTMENT OF THE INTERIOR

Bureau of Land Management

[LLCAN00000.L18200000.ZX0000]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, October 29 and 30, 2009, in Calistoga, CA. On October 29, the council convenes at 10 a.m. at the Calistoga Spa Hot Springs, 1006 Washington St., and departs for a field tour to public land sites managed by the BLM Ukiah Field Office. On October 30, the council meeting begins at 8 a.m. in the Conference Room of the Silver Rose Inn, 351 Rosedale Rd. The meeting will run until about 3 p.m. Public comments will be accepted at 11 a.m.

FOR FURTHER INFORMATION CONTACT: Nancy Haug, BLM Northern California District Manager, (530) 221-1743; or BLM Public Affairs Officer Joseph J. Fontana, (530) 252-5332.

SUPPLEMENTARY INFORMATION: The 12-member council advises the Secretary of the Interior, through the BLM, on a variety of planning and management issues associated with public land management in Northwest California. At this meeting agenda topics include discussion of BLM image and identity issues, a status report on public land equestrian projects, a status report on land use planning, information on the Weaverville Community Forest, a status report on development of a north coast Geotourism Map Guide, access to South Cow Mountain, and an update on BLM projects under the American Reinvestment and Recovery Act (ARRA). All meetings are open to the public. Members of the public may present written comments to the council. Each formal council meeting will have time allocated for public comments. Depending on the number of persons wishing to speak, and the time available, the time for individual comments may be limited. Members of the public are welcome on field tours, but they must provide their own transportation and meals. Individuals who plan to attend and need special assistance, such as sign language interpretation and other reasonable accommodations, should contact the BLM as provided above.

Dated: September 24, 2009.
Joseph J. Fontana,
Public Affairs Officer.

[FR Doc. E9-23760 Filed 10-1-09; 8:45 am]

BILLING CODE 4310-40-P